DEPARTMENT OF HEALTH AND HUMAN SERVICES

Administration for Community Living

Intent To Award a Single-Source Supplement To Provide the National Aging Network With Timely, Relevant, High-Quality Opportunities To Further Enhance Knowledge, Awareness and Models Related to Falls Prevention

ACTION: Notice.

SUMMARY: The Administration for Community Living (ACL) announces the intent to award a single-source supplement to the current cooperative agreement held by the National Council on Aging (NCOA) for the National Falls Prevention Resource Center. The purpose of this program is to advance the development and expansion of technical assistance, education, and resources to increase public awareness about the risk of falls and how to prevent them; increase the number of older adults and adults with disabilities who participate in evidence-based community falls prevention programs; and support the integration and sustainability of evidence-based falls prevention programs within community integrated health networks.

FOR FURTHER INFORMATION CONTACT: For further information or comments regarding this program supplement, contact Donna Bethge, U.S. Department of Health and Human Services, Administration for Community Living, Administration on Aging, Office of Nutrition and Health Promotion Programs, 202-795-7659, donna.bethge@acl.hhs.gov.

SUPPLEMENTARY INFORMATION: The purpose of this supplement is to:

• support the development of a survey of key stakeholders to determine falls prevention gaps, opportunities, and priorities in the aging network and expand the Falls Summit to capture strategies and action steps to address those gaps with nationally recognized experts in falls prevention, organizations from the health, nutrition, and aging sectors, select federal and state agencies, professional associations, corporations, and foundations that have an interest in healthy aging;

• expand upon the reach of the Falls Prevention Awareness Week to incorporate additional messaging regarding healthy aging, independence and quality of life that can be realized by moving from falls prevention awareness to action. This will include crafting new messages that will be disseminated to a broader audience to better resonate with older adults and their caregivers;

• provide further development of leaders in the falls prevention network through a fellowship program to focus on systems change to reduce falls, falls risk factors, and fall related injuries to ultimately improve the lives of older adults and save health care dollars; and

• cultivate and leverage partnerships with traditional and new partners, such as emergency medical services, paramedicine, transportation, housing, nutrition, and primary care providers to develop clinical and community collaborative best-practice frameworks and models designed to address multiple risk factors in innovative and scalable ways that would include a strong focus on increasing participation in evidence-based falls prevention programs and embedding those programs into the aging network in order to support healthy and active opportunities for older adults. This supplement would provide the resources necessary to pilot test these frameworks and models in communities.

The administrative supplement for FY 2023 will be in the amount of $2,000,000, bringing the total award for FY 2023 to $3,000,000.

The additional funding will not be used to begin new projects, but it will be used to enhance existing efforts. The grantee will continue to provide appropriate, quality falls prevention resources, increase public awareness about falls prevention and the risk of falls, support the implementation of evidence-based falls prevention programs, and seek new opportunities to embed falls prevention evidence-based programs in the community.

Program Name: National Falls Prevention Resource Center.

Recipient: National Council on Aging (NCOA).

Period of Performance: The supplement award will be issued for the third year of a five-year project period of August 1, 2021, to July 31, 2026.

Total Award Amount: $3,000,000 in FY 2023.

Award Type: Cooperative Agreement Supplement.

Statutory Authority: The Older Americans Act, Title IV; and the Patient Protection and Affordable Care Act, 42 U.S.C. 300u-11 (Prevention and Public Health Fund).

Basis for Award

National Council on Aging (NCOA) is currently funded to carry out the objectives of this project through its current cooperative agreement entitled, National Falls Prevention Resource Center for the period of August 1, 2021, through July 31, 2026. Since the project's implementation, the grantee has made satisfactory progress toward its approved work plan. The supplement will enable the grantee to carry their work even further, enhancing the support they provide to the Aging Network Falls Prevention Providers. The additional funding will not be used to begin new projects or activities, but rather to enhance efforts.

NCOA is uniquely positioned to complete the work called for under this project. They have an already established infrastructure and are a known and trusted organization in the Aging Network. Prior to this current award, NCOA competed and was twice awarded the National Falls Prevention Resource Center for the past 7 years. They have an established presence within the Aging Network. They have a comprehensive, interactive web-based repository (https://ncoa.org/professionals/health/center-for-healthy-aging/national-falls-prevention-resource-center) with tools and resources, including—best practices tip sheets, program and fidelity guidance, Falls Prevention Awareness Week toolkit, educational webinars, Grand Rounds recordings, articles covering topics from program implementation through sustainability, resource hubs, policy and practice models, the Falls Free Checkup online screening tool and they maintain the national falls prevention database. Under this current award period, they are providing technical assistance and educational opportunities for the Aging Network's Falls Prevention efforts, including workgroups, webinars, and live trainings. They collaborate nationally with state falls prevention collaboratives and host the annual Age + Action Conference, a grantee gathering to explore solutions to ensure equitable aging for all, connecting with colleagues, sharing innovative ideas, and discussing policy solutions that can be achieved together on behalf of older adults. They have reached thousands of providers using their comprehensive database of SUAs, AAAs, and other Falls Prevention Program stakeholders. In addition, they have developed partnerships with organizations, universities, and other entities to provide technical assistance, education, and support for the Aging Network.

Establishing an entirely new grant project at this time would be potentially disruptive to the current work already well under way. More importantly, it could cause confusion among the Aging Network Falls Prevention Program Providers and stakeholders, which could have a negative effect on training, implementation, and support opportunities. If this supplement were not provided, the project would be unable to address the significant unmet needs of the Aging Network Falls Prevention Program.

Dated: April 18, 2023.
Alison Barkoff,
Acting Administrator and Assistant Secretary for Aging.

[FR Doc. 2023-08546 Filed 4-21-23; 8:45 am]

BILLING CODE 4154-01-P